FEDERAL COMMUNICATIONS COMMISSION

47 CFR Part 9

[PS Docket Nos. 20-291 and 09-14, FCC 21-80; FRS 91583]

911 Fee Diversion; New and Emerging Technologies 911 Improvement Act of 2008

AGENCY: Federal Communications Commission.

ACTION: Final rule; announcement of compliance date.

SUMMARY: In this document, the Federal Communications Commission (Commission) announces that the Office of Management and Budget (OMB) has approved information collections associated with certain rules adopted in the 911 Fee Diversion; New and Emerging Technologies 911 Improvement Act Report and Order, under the Don't Break Up the T-Band Act of 2020. The Commission also announces that compliance with the rules is now required. The Commission also removes and amends a paragraph advising that compliance was not required until OMB approval was obtained. This document is consistent with the 2021 Report and Order and rules, which state the Commission will publish a document in the Federal Register announcing a compliance date for the rule sections and revise the rules accordingly.

DATES:

Effective date: This rule is June 22, 2022.

Compliance date: Compliance with 47 CFR 9.25(b), added in the final rule published August 17, 2021, at 86 FR 45892, and effective October 18, 2021, is required as of June 22, 2022.

FOR FURTHER INFORMATION CONTACT: For additional information, contact Jill Coogan, Attorney Advisor, Policy and Licensing Division, Public Safety and Homeland Security Bureau, (202) 418-1499 or via email at Jill.Coogan@fcc.gov.

SUPPLEMENTARY INFORMATION: This document announces that OMB approved the information collection requirement in 47 CFR 9.25(b).

The Commission publishes this document as an announcement of the compliance date of 47 CFR 9.25(b). If you have any comments on the burden estimates listed below, or how the Commission can improve the collections and reduce any burdens caused thereby, please contact Nicole Ongele, Federal Communications Commission, 45 L Street NE, Washington, DC 20554, regarding OMB Control Number 3060-1122. Please include the relevant OMB Control Number in your correspondence. The Commission will also accept your comments via the internet if you send them to PRA@fcc.gov.

To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the FCC is notifying the public that it received OMB approval on March 28, 2022 for the 911 fee information collection requirements contained in the Commission's rules at 47 CFR 9.25(b). Under 5 CFR part 1320, an agency may not conduct or sponsor a collection of information unless it displays a current, valid OMB Control Number.

No person shall be subject to any penalty for failing to comply with a collection of information subject to the Paperwork Reduction Act that does not display a current, valid OMB Control Number.

The foregoing notice is required by the Paperwork Reduction Act of 1995, Public Law 104-13, October 1, 1995, and 44 U.S.C. 3507.

The total annual reporting burdens and costs for the respondents are as follows:

OMB Control Number: 3060-1122.

OMB Approval Date: March 28, 2022.

OMB Expiration Date: March 31, 2025.

Title: Preparation of Annual Reports to Congress for the Collection and Expenditure of Fees or Charges for Enhanced 911 (E911) Services Under the NET 911 Improvement Act of 2008.

Form Number: N/A.

Type of Review: Revision of a currently approved collection.

Respondents: State, Local, and Tribal governments.

Number of Respondents and Responses: 66 respondents; 66 responses.

Estimated Time per Response: 55 hours.

Frequency of Response: Annual and one-time reporting requirement.

Obligation to Respond: Voluntary. Statutory authority for this information collection is contained in New and Emerging Technologies 911 Improvement Act of 2008, Public Law 110-283, 122 Stat. 2620 (2008) (NET 911 Act), and the Consolidated Appropriations Act, 2021, Public Law 116-260, Division FF, Title IX, Section 902, Don't Break Up the T-Band Act of 2020 (section 902).

Total Annual Burden: 3,630 hours.

Total Annual Cost: No Cost.

Nature and Extent of Confidentiality: There is no need for confidentiality with this collection of information.

Privacy Act Impact Assessment: No impact(s).

Needs and Uses: This document pertains to annual information collection relating to the Commission's 911 fee regulations. OMB previously approved the annual information collection associated with 911 fees. This document announces that OMB has approved modifications of the annual 911 fee information collection pursuant to the 911 Fee Diversion; New and Emerging Technologies 911 Improvement Act Report and Order.

The Commission is directed by statute (New and Emerging Technologies 911 Improvement Act of 2008, Public Law 110-283, 122 Stat. 2620 (2008) (NET 911 Act), as amended by the Consolidated Appropriations Act, 2021, Public Law 116-260, Division FF, Title IX, Section 902, Don't Break Up the T-Band Act of 2020 (section 902)), to submit an annual “Fee Accountability Report” to the Committee on Commerce, Science, and Transportation of the Senate and the Committee on Energy and Commerce of the House of Representatives “detailing the status in each State of the collection and distribution of [911 fees or charges], and including findings on the amount of revenues obligated or expended by each State or political subdivision thereof for any purpose or function other than the purposes and functions designated in the final rules issued under paragraph (3) as purposes and functions for which the obligation or expenditure of any such fees or charges is acceptable.” 47 U.S.C. 615a-1(f)(2), as amended. Section 615a-1(f)(3) of the statute directs the Commission, not later than 180 days after December 27, 2020, to “issue final rules designating purposes and functions for which the obligation or expenditure of 9-1-1 fees or charges, by any State or taxing jurisdiction authorized to impose such a fee or charge, is acceptable.” 47 U.S.C. 615a-1(f)(3), as amended. The statute directs the Commission to submit its first annual report within one year after the date of enactment of the NET 911 Act. Given that the NET 911 Act was enacted on July 23, 2008, the first annual report was due to Congress on July 22, 2009. In addition, the statute provides that “[i]f a State or taxing jurisdiction . . . receives a grant under section 942 of this title after December 27, 2020, such State or taxing jurisdiction shall, as a condition of receiving such grant, provide the information requested by the Commission to prepare [the annual Fee Accountability Report to Congress].” 47 U.S.C. 615a-1(f)(4), as amended.

Description of Information Collection: The Commission will collect information for the annual preparation of the Fee Accountability Report via a web-based survey that appropriate state officials (e.g., state 911 administrators and budget officials) will be able to access to submit data pertaining to the collection and distribution of fees or charges for the support or implementation of 911 or enhanced 911 services, including data regarding whether their respective state collects and distributes such fees or charges, as well as the nature (e.g., amount and method of assessment or collection) and the amount of revenues obligated or expended for any purpose or function other than the purposes and functions designated as acceptable in the Commission's final rules. Consistent with 47 U.S.C. 615a-1(f)(3)(D)(iii), the Commission will request that state officials report this information with respect to 911 fees or charges within their state, including any political subdivision, Indian Tribe, or village or regional corporation serving a region established pursuant to the Alaska Native Claims Settlement Act within their state boundaries. 47 U.S.C. 615a-1(f)(3)(D)(iii). In addition, consistent with the definition of “State” set out in 47 U.S.C. 615b, the Commission will collect this information from the District of Columbia and the inhabited U.S. territories and possessions. 47 U.S.C. 615b.

List of Subjects in 47 CFR Part 9

Communications common carriers, Communications equipment, Radio.

Federal Communications Commission.
Marlene Dortch,
Secretary.

Final Rules

For the reasons discussed in the preamble, the Federal Communications Commission amends 47 CFR part 9 as follows:

PART 9—911 REQUIREMENTS

1. The authority citation for part 9 is revised to read as follows:

Authority: 47 U.S.C. 151-154, 152(a), 155(c), 157, 160, 201, 202, 208, 210, 214, 218, 219, 222, 225, 251(e), 255, 301, 302, 303, 307, 308, 309, 310, 316, 319, 332, 403, 405, 605, 610, 615, 615 note, 615a, 615b, 615c, 615a-1, 616, 620, 621, 623, 623 note, 721, and 1471, and Section 902 of Title IX, Division FF, Pub. L. 116-260, 134 Stat. 1182, unless otherwise noted.

§ 9.25 [Amended]

2. Amend § 9.25 by removing paragraph (c).

[FR Doc. 2022-13230 Filed 6-21-22; 8:45 am]

BILLING CODE 6712-01-P